DEPARTMENT OF EDUCATION

Extension of the Application Deadline Date; Applications for New Awards; Alaska Native Education Program

AGENCY: Office of Elementary and Secondary Education, Department of Education.

ACTION: Notice.

SUMMARY: On January 12, 2022, the Department of Education (Department) published in the Federal Register a notice inviting applications (NIA) for the fiscal year (FY) 2022 Alaska Native Education (ANE) program competition, Assistance Listing Number 84.356A. The ANE NIA established a deadline date of March 14, 2022, for transmittal of applications. This notice extends the FY 2022 application deadline date to April 26, 2022. This notice relates to the approved information collections under OMB control numbers 1894-0006 and 1840-0842.

FOR FURTHER INFORMATION CONTACT: Almita Reed, U.S. Department of Education, 400 Maryland Avenue SW, Room 3E222, Washington, DC 20202. Telephone: (202) 260-1979. Email: OESE.ASKANEP@ed.gov.

If you use a telecommunications device for the deaf (TDD) or a text telephone (TTY), call the Federal Relay Service (FRS), toll free, at 1-800-877-8339.

SUPPLEMENTARY INFORMATION: On January 12, 2022, we published the NIA for the FY 2022 ANE competition in the Federal Register (87 FR 1732). To allow applicants more time to prepare and submit their applications, we are extending the deadline for transmittal of applications. The application package will be adjusted to reflect the changes.

Applicants that have already submitted applications under the FY 2022 ANE competition may resubmit applications, but are not required to do so. The Department will consider the application that is most recently submitted before the deadline of April 26, 2022.

All other requirements and conditions stated in the NIA remain the same.

Program Authority: 20 U.S.C. 7541-7546.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth E. Ryder,
Deputy Assistant Secretary for Policy and Programs, Office of Elementary and Secondary Education.

[FR Doc. 2022-04517 Filed 3-1-22; 8:45 am]

BILLING CODE 4000-01-P